DEPARTMENT OF THE INTERIOR

Bureau of Land Management

[LLUT020000-10-L13110000-EJ0000-24-1A]

Notice of Availability of the West Tavaputs Plateau Natural Gas Full Field Development Plan Final Environmental Impact Statement and Record of Decision

AGENCY: Bureau of Land Management, Interior.

ACTION: Notice of Availability.

SUMMARY: In accordance with the National Environmental Policy Act of 1969 and the Federal Land Policy and Management Act of 1976, as amended, the Bureau of Land Management (BLM) has prepared a Final Environmental Impact Statement (EIS) for the West Tavaputs Natural Gas Full Field Development Plan and by this notice is announcing its availability. Concurrently, the BLM announces the availability of the Record of Decision (ROD) for this project, located in Carbon, Duchesne, and Uintah Counties, Utah. The Utah State Director signed the ROD on July 2, 2010, which constitutes the final decision of the BLM.

DATES: The decision is effective 30 days from the date that the Environmental Protection Agency (EPA) publishes its notice in the Federal Register. The Council on Environmental Quality regulations normally requires a minimum 30-day availability period between the Notice of Availability for the Final EIS and the issuance of a ROD. Because this ROD is subject to a 30-day appeal to the Interior Board of Land Appeals (IBLA), the BLM has decided to issue this ROD at the same time as the Final EIS as allowed by 40 CFR 1506.10(b). This allows the 30-day appeal period for this ROD and the 30-day availability period for the Final EIS to run concurrently.

ADDRESSES: Copies of the Final EIS and ROD are available for public inspection at the Price Field Office, Bureau of Land Management, 125 South 400 West, Price, Utah 84501, or via the Internet at http://www.blm.gov/ut/st/en/fo/price.html.

FOR FURTHER INFORMATION CONTACT: For further information contact Tyler Ashcroft, Planning and Environmental Coordinator, telephone (435) 636-3613; address 125 South 600 West, Price, Utah 84501; e-mail Tyler_Ashcroft@blm.gov.

SUPPLEMENTARY INFORMATION: The West Tavaputs Plateau (WTP) Project Area is located in Carbon, Duchesne, and Uintah counties approximately 30 miles east-northeast of Price, Utah. All surface disturbance related to the project would be located in Carbon County. The WTP Project Area is bounded on the west by Sheep Canyon, on the north by Nine Mile Canyon, and on the east by Desolation Canyon of the Green River. The southern boundary of the WTP Project Area is a straight line reflecting an anticline in the sub-surface that limits the southern extent of the natural gas resources targeted by the project. Surface ownership in the 137,930-acre WTP Project Area is approximately 87 percent Federal, 8 percent State of Utah, and 5 percent private. Mineral ownership closely parallels surface ownership.

During preparation of the WTP EIS, the Environmental Protection Agency (EPA), United States Fish and Wildlife Service, State of Utah, Carbon County, Duchesne County, and Uintah County participated as Cooperating Agencies.

Under the Proposed Action (Alternative A) of the WTP EIS, the project proponent, Bill Barrett Corporation (BBC), and other operators with leases in the WTP Project Area, proposed development of up to 807 natural gas wells from up to 538 well pads. The BLM considered four additional alternatives: Alternative B—No Action Alternative; Alternative C—Transportation Impact Reduction Alternative; Alternative D—Conservation Alternative; and Alternative E—Agency Preferred Alternative. Major differences between alternatives focused on the mitigation measures applied to protect resources.

Public scoping was initiated on August 26, 2005, with the publication of the Notice of Intent in the Federal Register. On February 1, 2008, a Notice of Availability announcing the availability of the Draft EIS for a 90-day public comment period was published in the Federal Register (http://www.gpoaccess.gov/fr/) and the EPA's Federal Register of Environmental Documents (http://www.epa.gov/fedrgstr/). The public comment period officially closed on May 1, 2008. During the Draft EIS public comment period, the Price Field Office received approximately 55,000 comment letters from Federal agencies, state and local governments, Indian tribes, and interested groups and publics. The majority of the concerns that were raised by the public on the Draft EIS were focused on impacts to cultural resources, air quality, lands with wilderness characteristics, and wildlife.

In December 2008, between the Draft EIS and Final EIS, and as a result of concerns regarding impacts to cultural resources, the BLM recommended development of a Programmatic Agreement. Sixteen governmental and non-governmental agencies and organizations participated in the development of, and were signatories to, the Agreement on January 5, 2010. The Agreement identifies measures that will minimize the impacts of project-related activity on cultural resources.

In addition, the BLM conducted project specific air quality modeling for ozone for analysis in the Final EIS. The BLM has determined that the range of alternatives considered within the Draft EIS evaluates sufficient mitigation measures to address wildlife and wilderness concerns.

The Agency Preferred Alternative identified in the Draft EIS and Final EIS was not carried forward as the Selected Alternative in ROD. Rather, the decision is a combination of elements selected from the alternatives discussed in the EIS. Regulations allow the agency to select a combination of alternatives if the effects of such combined elements of alternatives are reasonably apparent from the analysis in the relevant environmental document (43 CFR 46.420(c)).

During preparation of the Final EIS, BBC voluntarily contracted their plan of development from their original Proposed Action (Alternative A). According to BBC, as a result of interim drilling during the preparation of the EIS, they increased their knowledge of the extent of the natural gas deposits, and refined their operational practices, which will allow BBC to maximize natural gas recovery while minimizing surface disturbance.

The Selected Alternative in the ROD provides for natural gas drilling on leased Federal lands as proposed within the contracted plan of development, with minor modifications. The ROD also provides for development of leased lands held by other lessors within the WTP Project Area. The decision in the ROD to approve the Selected Alternative is consistent with the goals, objectives, and decisions in the Price and Vernal Field Offices' RMPs, which were completed in October 2008.

When compared to the action alternatives considered in the Final EIS, the Selected Alternative in the ROD will substantially reduce the footprint of the project upon the land by making extensive use of directional drilling from a lesser number of well pads. Under the Selected Alternative, BBC will not construct new well pads within the Jack and Desolation Canyon Wilderness Study Areas (WSAs), and will minimize the amount of development on non-WSA lands with wilderness characteristics. In addition, the ROD includes a decision to restrict public motorized access on certain roads in the WTP Project Area. Restricted use of these roads is in conformance with the goals and objectives of the 2008 Price RMP and modifies the Travel Management Plan Map contained in that document.

The ROD is effective 30 days from the date that the EPA publishes its Notice of Availability of the Final EIS and ROD in the Federal Register. During the 30 days between the EPA publication and the effective date of the ROD, the ROD may be appealed to the IBLA, Office of Hearings and Appeals, U.S. Department of the Interior, 801 North Quincy Street, Suite 300, Arlington, Virginia 22203, in accordance with the regulations contained in 43 CFR part 4. The appeal must also be filed with the State Director, BLM, Utah State Office, P.O. Box 45155, Salt Lake City, Utah 84145-0155.

If you wish to file a petition for stay of the ROD pursuant to 43 CFR 4.21 during the pendency of your appeal before the IBLA, the petition for stay must accompany your notice of appeal. A petition for stay must show sufficient justification based on the standards listed in 43 CFR 4.21(b) which include:

(1) The relative harm to the parties if the stay is granted or denied;

(2) The likelihood of the appellant's success on the merits;

(3) The likelihood of irreparable harm to the appellant or resource if the stay is not granted; and

(4) Whether the public interest favors granting the stay.

If a petition for stay is submitted with the notice of appeal, a copy of the notice of appeal and petition for stay must be served on the IBLA at the same time it is filed with the State Director.

A copy of the notice of appeal, and statement of reasons and all pertinent documents must be served on each adverse party named in the decision from which the appeal is taken and on the Office of the Regional Solicitor, U.S. Department of the Interior, 6201 Federal Building, 125 South State Street, Salt Lake City, Utah 84138-1180, no later than 15 days after filing documents with the State Director or IBLA.

Authority: 40 CFR 1506.6, 40 CFR 1506.10.

Jeff Rawson,
Associate State Director.

[FR Doc. 2010-18863 Filed 7-29-10; 8:45 am]

BILLING CODE 4310-DQ-P